DEPARTMENT OF TRANSPORTATION

Federal Highway Administration

Environmental Impact Statement: San Diego, CA

AGENCY: Federal Highway Administration (FHWA), DOT.

ACTION: Notice of intent.

SUMMARY: The FHWA is issuing this notice to advise the public that an environmental impact statement will be prepared to identify a corridor for a future proposed highway and port of entry in San Diego County, California.

FOR FURTHER INFORMATION CONTACT: Steve Healow, Project Development Engineer, Federal Highway Administration, 650 Capitol Mall, Suite 4-100, Sacramento, California 95814. Telephone: (916) 498-5849 or Susanne Glasgow, Deputy District Director, Environmental Division, California Department of Transportation, District 11, 4050 Taylor Street, MS-242, San Diego, CA 92110. Telephone: (619) 688-0100.

SUPPLEMENTARY INFORMATION: The FHWA, in cooperation with the California Department of Transportation (Caltrans) and the General Services Administration (GSA), will prepare a phased environmental impact statement (PEIS) on a proposal to identify and preserve a corridor for future State Route (SR) 11, identify an area for the future Otay Mesa East Port of Entry (POE), and study the functionality of the existing Commercial Vehicle Enforcement Facility (CVEF) on eastern Otay Mesa in San Diego County. Identification and preservation of the highway corridor and port of entry will facilitate the application process for presidential permit for the POE, land use planning by local jurisdictions, and right-of-way acquisition for the future projects.

Future SR11 would begin at approximately the SR905/SR125 interchange and proceed easterly approximately 2.7 miles to a new POE. The completed PEIS will facilitate Caltrans, FHWA, and GSA proceeding independently with right-of-way acquisition, designation, and project level environmental processing of their respective projects. Within the limits of and adjacent to the study area, there are biological resources, cultural resources, agricultural lands, cross-border concerns, and potential growth issues.

In addition to the no action alternative, there are alternatives for two proposed corridors to two POE locations under consideration.

Letters describing the proposed action and soliciting comments will be sent to appropriate federal, state, and local agencies, and to private organizations and citizens who have previously expressed or are known to have interest in this proposal. A public scoping meeting will be held at an appropriate location in or near Otay Mesa in June 2007. In addition, a public hearing will be held. Public notice will be given of the time and place of the meeting and hearing. The draft PEIS will be available for public and agency review prior to the public hearing.

To ensure that the full range of issues related to this proposed action are addressed and all significant issues identified, comments and suggestions are invited from all interested parties. Comments or questions concerning this proposed action and the PEIS should be directed to FHWA and/or Caltrans at the addresses provided above. The views of the agencies having knowledge about the historic resources potentially affected by the proposal or interested in the effects of the project on historic properties are solicited.

(Catalog of Federal Domestic Assistance Program Number 20.205, Highway Planning and Construction. The regulations implementing Executive Order 12372 regarding intergovernmental consultation of federal programs and activities apply to this program.)

Issued on: April 23, 2007.
Steve Healow,
Project Development Engineer, Federal Highway Administration, Sacramento, California.

[FR Doc. E7-8444 Filed 5-1-07; 8:45 am]

BILLING CODE 4910-22-P